DEPARTMENT OF ENERGY

Federal Energy Regulatory Commission

[Docket No. RP00-442-000]

U-T Offshore System, L.L.C.; Notice of Filing

August 11, 2000.

Take notice that on August 7, 2000, U-T Offshore Company, L.L.C. (UTOS), P.O. Box 2511, Houston, Texas 77252, tendered for filing as part of its FERC Gas Tariff, Fourth Revised Volume 1, the revised tariff sheets listed in Appendix A. UTOS proposes that the foregoing tariff sheets be made effective September 1, 2000.

UTOS states this filing is made to reflect changes relating to the implementation of a new Interactive Internet Website.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21020 Filed 8-17-00; 8:45 am]

BILLING CODE 6717-01-M